DEPARTMENT OF JUSTICE

Office of Justice Programs

[OJP (OJJDP) Docket No. 1822]

Meeting of the Coordinating Council on Juvenile Justice and Delinquency Prevention

AGENCY: Coordinating Council on Juvenile Justice and Delinquency Prevention.

ACTION: Notice of meeting.

SUMMARY: The Coordinating Council on Juvenile Justice and Delinquency Prevention announces its next meeting.

DATES: Wednesday, April 10, 2024, at 1:00 p.m.-4:00 p.m. ET.

ADDRESSES: The meeting will take place at the Department of Justice, 810 7th St. NW, Washington, DC.

FOR FURTHER INFORMATION CONTACT: Visit the website for the Coordinating Council at www.juvenilecouncil.gov or contact Maegen Barnes, Project Manager/Federal Contractor, by telephone (732) 948-8862, email at Maegen.Currie@usdoj.gov; or Julie Herr, Designated Federal Official (DFO), OJJDP, by telephone at (202) 598-6885, email at Julie.Herr@usdoj.gov. Please note that the above phone numbers are not toll free.

SUPPLEMENTARY INFORMATION: The Coordinating Council on Juvenile Justice and Delinquency Prevention (“Council”), established by statute in the Juvenile and Delinquency Prevention Act of 1974 section 206 (a) (34 U.S.C. 11116(a)), will meet to carry out its advisory functions. Information regarding this meeting will be available on the Council's web page at www.juvenilecouncil.gov. In light of space constraints, this meeting will be open to the public via online video conference only. Prior registration is required (see below). In addition, meeting documents will be viewable via this website including meeting announcements, agendas, minutes and reports.

Although designated agency representatives may attend in lieu of members, the Council's formal membership consists of the following secretaries and/or agency officials; Attorney General (Chair), Administrator of the Office of Juvenile Justice and Delinquency Prevention (Vice Chair), Secretary of Health and Human Services, Assistant Secretary for Mental Health and Substance Use, Secretary of the Interior, Secretary of Labor, Secretary of Education, Secretary of Housing and Urban Development, Director of the Office of National Drug Control Policy, Chief Executive Officer of AmeriCorps and the Assistant Secretary of Homeland Security for the U.S. Immigration and Customs Enforcement. Ten additional members are appointed by the President of the United States, the Speaker of the U.S. House of Representatives, the U.S. Senate Majority Leader and the Chairman of the Committee on Indian Affairs of the Senate. Further agencies that take part in Council activities include the Departments of Agriculture and Defense.

Council meeting agendas are available on www.juvenilecouncil.gov. Agendas will generally include: (a) Opening remarks and introductions; (b) Presentations and discussion of agency work; and (c) Council member announcements.

Members of the public who wish to virtually attend, must register in advance of the meeting at the meeting registration site, by no later than Wednesday, April 3, 2024. Should issues arise with online registration, or to register by email, the public should contact Maegen Barnes, Senior Program Manager/Federal Contractor (see above for contact information). If submitting registrations by email, attendees should include all of the following: Name, Title, Organization/Affiliation, Full Address, Phone Number, and Email. Registration for this is also found online at www.juvenilecouncil.gov.

Interested parties may submit written comments and questions in advance to Maegen Barnes, Senior Program Manager/Federal Contractor (contact information above). All comments and questions should be submitted no later than 5:00 p.m. ET on Wednesday, April 3, 2024.

The Council will limit public statements if they are found to be duplicative. Written questions submitted by public attendees may also be considered by the Council, time permitting.

Julie Herr,
Designated Federal Official, Office of Juvenile Justice and Delinquency Prevention.

[FR Doc. 2024-05442 Filed 3-13-24; 8:45 am]

BILLING CODE 4410-18-P